FEDERAL COMMUNICATIONS COMMISSION

47 CFR Part 73

[DA 04-2132; MB Docket No. 04-24; RM-10846]

Radio Broadcasting Services; Lincoln and Yuba City, CA

AGENCY: Federal Communications Commission.

ACTION: Final rule.

SUMMARY: In response to a Notice of Proposed Rule Making, 69 FR 8355 (February 24, 2004), this Report and Order downgrades Channel 280B1, Station KXCL(FM), Yuba City California, to Channel 280A; reallots Channel 280A to Lincoln, California; and modifies Station KXCL(FM)'s license accordingly. The coordinates for Channel 280A at Lincoln, California, are 35-54-45 NL and 121-23-20 WL, with a site restriction of 8.7 kilometers (5.4 miles) west of Lincoln.

DATES: Effective September 7, 2004.

FOR FURTHER INFORMATION CONTACT: R. Barthen Gorman, Media Bureau, (202) 418-2180.

SUPPLEMENTARY INFORMATION: This is a synopsis of the Commission's Report and Order, MB Docket No. 04-24, adopted July 14, 2004, and released July 20, 2004. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 202 863-2893, facsimile 202 863-2898. The Commission will send a copy of this Report and Order in a report to be sent to Congress and the General Accounting Office pursuant to the Congressional Review Act, see 5 U.S.C. 801(a)(1)(A).

List of Subjects in 47 CFR Part 73

Radio, Radio broadcasting.

Part 73 of title 47 of the Code of Federal Regulations is amended as follows:

PART 73—RADIO BROADCAST SERVICES

1. The authority citation for part 73 reads as follows:

Authority: 47 U.S.C. 154, 303, 334 and 336.

§ 73.202 [Amended]

2. Section 73.202(b), the Table of FM Allotments under California, is amended by adding Lincoln, Channel 280A and by removing Yuba City, Channel 280B1.

Federal Communications Commission.
John A. Karousos,
Assistant Chief, Audio Division, Media Bureau.

[FR Doc. 04-17423 Filed 7-29-04; 8:45 am]

BILLING CODE 6712-01-P